DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA Aviation Rulemaking Advisory Committee (ARAC) to discuss transport airplane and engine issues.

DATES: The meeting is scheduled for November 9, 2001, from 11 a.m. to 1 p.m. Arrange for oral presentations by November 2, 2001.

ADDRESSES: Federal Aviation Administration, 800 Independence Avenue, SW, Room 810, Washington, DC 20591.

FOR FURTHER INFORMATION CONTACT: Effie Upshaw, Office of Rulemaking, ARM-209, Federal Aviation Administration, 800 Independence Avenue, SW., Room 810, Washington, DC 20591, Telephone (202) 267-7626, FAX (202) 267-5075, or e-mail at effie.upshaw@faa.gov

SUPPLEMENTARY INFORMATION: Pursuant to section 10(a)(2) of the Federal Advisory Committee Act, (Pub. L. 92-463; 5 U.S.C. app. III), notice is given of an ARAC meeting to be held on November 9, 2001, in Washington, DC. The purpose of the meeting is to review and recommend to the FAA two proposed advisory circulars developed by the Design for Security Harmonization Working Group: (1) flight deck intrusion, and (2) bulkhead penetration.

Attendance is open to the public, but it will be limited to the availability of meeting room space and telephone lines. Details for participation in the teleconference will be available after November 1, 2001, on the ARAC calendar at http://www.faa.gov/avr/arm/aracal/htm, or by contacting the person listed under the heading FOR FURTHER INFORMATION CONTACT. Callers outside the Washington metropolitan area will be responsible for paying long-distance charges.

The public must make arrangements by November 2, 2001, to present oral statements at the meeting. Written statements may be presented to the committee at anytime by providing 25 copies to the Assistant Executive Director for Transport Airplane and Engine Issues or by providing copies at the meeting. Copies of the documents to be presented by ARAC for decision as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on October 19, 2001.
Anthony F. Fazio,
Executive Director, Aviation Rulemaking Advisory Committee.

[FR Doc. 01-26916 Filed 10-24-01 8:45 am]

BILLING CODE 4910-13-M